DEPARTMENT OF AGRICULTURE

Sunshine Act Meeting

ACTION: Staff briefing for the Board of Directors.

Time and Date: 2 p.m., Thursday, February 13, 2003.

Place: Conference Room 104-A, Jamie L. Whitten Federal Building, U.S. Department of Agriculture, 12th & Jefferson Drive, SW., Washington, DC.

Status: Open.

Matters to be Discussed: 1. Broadband Loan Program.

2. Privatization issues.

3. Administrative issues.

ACTION: Board of Directors meeting.

Time and Date: 9 a.m., Friday, February 14, 2003.

Place: Conference Room 104-A, Jamie L. Whitten Federal Building, U.S. Department of Agriculture, 12th & Jefferson Drive, SW., Washington, DC.

Status: Open.

Matters to be Considered: The following matters have been placed on the agenda for the Board of Directors meeting:

1. Call to order.

2. Action on minutes of the November 14, 2002, and January 8, 2003, board meetings.

3. Secretary's report on loans approved in first quarter, FY 2003.

4. Treasurer's report.

5. Presentation of final report on privatization.

6. Discussion of privatization of the Rural Telephone Bank.

7. Governor's remarks.

8. Adjournment.

Contact Person for More Information: Roberta D. Purcell, Assistant Governor, Rural Telephone Bank, (202) 720-9554.

Dated: February 5, 2003.
Curtis M. Anderson,
Deputy Governor, Acting as Governor, Rural Telephone Bank.

[FR Doc. 03-3253 Filed 2-5-03; 1:11 pm]

BILLING CODE 3410-15-P